DEPARTMENT OF THE INTERIOR

Bureau of Land Management

[LLNV912000 L13400000.PQ0000 LXSS006F0000; MO#4500090018]

Notice of Public Meeting: Bureau of Land Management Nevada Resource Advisory Councils; Postponement

In the notice document published Monday, February 1, 2016 (81 FR 5132), a public meeting of the Bureau of Land Management Nevada Resource Advisory Councils was announced.

The BLM Nevada Resource Advisory Council meeting scheduled for February 10-11, 2016 has been postponed until the outstanding member appointments have been finalized. A new notice will be published when the dates have been decided.

Rudy Evenson,
Deputy Chief, Office of Communications.

[FR Doc. 2016-02095 Filed 2-3-16; 8:45 am]

BILLING CODE 4310-HC-P